DEPARTMENT OF AGRICULTURE

Agricultural Marketing Service

[Doc. No. AMS-FGIS-22-0012]

Opportunity for United States Grain Standards Act Designation in the Alabama: Essex, Illinois: Missouri; Hastings, Nebraska; Aberdeen, South Dakota; and Washington areas; and Request for Comments on the Official Agencies Servicing These Areas

AGENCY: Agricultural Marketing Service, USDA.

ACTION: Notice.

SUMMARY: The United States Grain Standards Act (USGSA) designations of the official agencies listed in SUPPLEMENTARY INFORMATION below will end on the prescribed dates. The Agricultural Marketing Service (AMS) is seeking persons or governmental agencies interested in providing official services in the areas presently served by these agencies to submit an application for designation. Designation provides for private entities or state governmental agencies to be an integral part of the official grain inspection system. Designated agencies work under the supervision of AMS's Federal Grain Inspection Service (FGIS) and are authorized to provide official inspection and weighing services in a defined geographical area. In addition, we request comments on the quality of services provided by the following designated agencies: Alabama Department of Agriculture and Industries (Alabama); Kankakee Grain Inspection, Inc. (Kankakee); Missouri Department of Agriculture (Missouri); Hastings Grain Inspection, Inc. (Hastings); Aberdeen Grain Inspection, Inc. (Aberdeen); and Washington Department of Agriculture (Washington). AMS encourages submissions from traditionally underrepresented individuals, organizations, and businesses to reflect the diversity of this industry. AMS encourages submissions from qualified applicants, regardless of race, color, age, sex, sexual orientation, gender identity, national origin, religion, disability status, protected veteran status, or any other characteristic protected by law.

DATES: Applications and comments for areas of designation terminating on September 30, 2022, currently operated by Aberdeen, Hastings, and Missouri must be received by September 19, 2022.

Applications and comments for areas of designation terminating on December 31, 2022, currently operated by Alabama, Kankakee, and Washington must be received between October 1, 2022, and October 31, 2022.

ADDRESSES: Submit applications and comments concerning this Notice using any of the following methods:

• To apply for USGSA Designation: Go to FGISonline (https://fgisonline.ams.usda.gov/) and then click on the Delegations/Designations and Export Registrations (DDR) link. You will need to obtain an FGISonline customer number (CIM) and create a USDA eAuthentication account at https://www.eauth.usda.gov/ prior to applying.

• To submit Comments Regarding Current Designated Official Agencies: Go to Regulations.gov (https://www.regulations.gov). Instructions for submitting and reading comments are detailed on the site. Interested persons are invited to submit written comments concerning this notice. All comments must be submitted through the Federal e-rulemaking portal at https://www.regulations.gov and should reference the document number and the date and page number of this issue of the Federal Register. All comments submitted in response to this notice will be included in the record and will be made available to the public. Please be advised that the identity of the individuals or entities submitting comments will be made public on the internet at the address provided above.

Read Applications and Comments: All comments will be available for public inspection online at https://www.regulations.gov. If you would like to view the applications, please contact us at FGISQACD@usda.gov.

FOR FURTHER INFORMATION CONTACT: Austyn L. Hughes, Compliance Officer, Federal Grain Inspection Service, AMS, USDA; Telephone (816) 266-5066; or Email: FGISQACD@usda.gov.

SUPPLEMENTARY INFORMATION: The designations of the official agencies listed below will end on the prescribed dates:

Official agency | Headquarters location and telephone | Designation end | Applications/comments open period
Aberdeen Grain Inspection, Inc | Aberdeen, SD, 605-225-8432 | 09/30/2022 | 30 Days After Publication.
Hastings Grain Inspection, Inc | Hastings, NE, 308-384-2174 | 09/30/2022 | 30 Days After Publication.
Missouri Department of Agriculture | Jefferson City, MO, 573-751-5515 | 09/30/2022 | 30 Days After Publication.
Alabama Department of Agriculture and Industries | Montgomery, AL, 251-438-2549 | 12/31/2022 | 08/01/2022-08/31/2022.
Kankakee Grain Inspection, Inc | Essex, IL, 815-365-2268 | 12/31/2022 | 08/01/2022-08/31/2022.
Washington Department of Agriculture | Olympia, WA, 360-870-1178 | 12/31/2022 | 08/01/2022-08/31/2022.

Section 7(f) of the United States Grain Standards Act (USGSA) authorizes the Secretary to designate a qualified applicant to provide official services in a specified area after determining that the applicant is better able than any other applicant to provide such official services (7 U.S.C. 79(f)). A designated agency may provide official inspection service and/or Class X or Class Y weighing services at locations other than port locations. Under section 7(g) of the USGSA, designations of official agencies are effective for no longer than five years, unless terminated by the Secretary, and may be renewed according to the criteria and procedures prescribed in section 7(f) of the USGSA. See also, 7 CFR 800.196 for further information and guidance.

Designation Application Locations

The following list identifies the currently operating designated official agencies and the specific areas of operation for designation applications. Please review the additional information provided via separate Federal Register notice for complete understanding of locations needing service designation. These are listed in order of anticipated designation termination date.

Aberdeen: Areas of designation include parts of North Dakota and South Dakota. Please see the May 30, 2017, issue of the Federal Register (82 FR 24671) for descriptions of the areas open for designation.

Hastings: Areas of designation include parts of Nebraska. Please see the May 30, 2017, issue of the Federal Register (82 FR 24671) for descriptions of the areas open for designation.

Missouri: Areas of designation include the entire state of Missouri. Please see the May 22, 2017, issue of the Federal Register (82 FR 23174) for descriptions of the areas open for designation.

Alabama: Areas of designation include the entire state of Alabama (except for export port locations). Please see the July 3, 2017, issue of the Federal Register (82 FR 30820) for descriptions of the areas open for designation.

Kankakee: Areas of designation include parts of Illinois. Please see the July 3, 2017, issue of the Federal Register (82 FR 30817) for descriptions of the areas open for designation.

Washington: Areas of designation include the entire state of Oregon (except for export port locations), the entire state of Washington (except for export port locations), and parts of Idaho. Please see the July 3, 2017, issue of the Federal Register (82 FR 30819) for descriptions of the areas open for designation.

Opportunity for Designation

Interested persons or governmental agencies may apply for designation to provide official services in the geographic areas of the official agencies specified above under the provisions of section 7(f) of the USGSA and 7 CFR 800.196. Designations in the specified geographic areas for Aberdeen, Hastings, and Missouri begin October 1, 2022. Designations in the specified geographic areas for Alabama, Kankakee, and Washington begin January 1, 2023. To apply for designation or to request more information on the geographic areas serviced by these official agencies, contact FGISQACD@usda.gov.

Please note that sampling, weighing, and inspection services may be offered by designated agencies under the Agricultural Marketing Act of 1946 for other commodities under the auspices of FGIS through separate cooperative agreements with AMS. The service area for such cooperative agreements mirrors the USGSA designation area. For further information, see 7 U.S.C. 1621 et seq. or contact FGISQACD@usda.gov.

Request for Comments

We are publishing this Notice to provide interested persons the opportunity to comment on the quality of services provided by Aberdeen, Hastings, Missouri, Alabama, Kankakee, and Washington official agencies. In the designation process, we are particularly interested in receiving comments citing reasons and pertinent data supporting or objecting to the designation of the applicant(s). Such comments should be submitted through the Federal e-rulemaking portal at https://www.regulations.gov.

We consider applications, comments, and other available information when determining which applicants will be designated.

Authority: 7 U.S.C. 71-87k.

Melissa Bailey,
Associate Administrator, Agricultural Marketing Service.

[FR Doc. 2022-17839 Filed 8-18-22; 8:45 am]

BILLING CODE 3410-02-P